DEPARTMENT OF EDUCATION

[Docket No.: ED-2012-ICCD-0060]

Agency Information Collection Activities; Submission to the Office of Management and Budget for Review and Approval; Comment Request; Federal Family Educational Loan Program—Servicemembers Civil Relief Act (SCRA)

AGENCY: Department of Education (ED), Federal Student Aid (FSA).

ACTION: Notice.

SUMMARY: In accordance with the Paperwork Reduction Act of 1995, ED is proposing a extension of an existing information collection.

DATES: Interested persons are invited to submit comments on or before December 27, 2012.

ADDRESSES: Comments submitted in response to this notice should be submitted electronically through the Federal eRulemaking Portal at http://www.regulations.gov by selecting Docket ID number ED-2012-ICCD-0060 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 2E117, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Federal Family Educational Loan Program—Servicemembers Civil Relief Act (SCRA)

OMB Control Number: 1845-0093

Type of Review: Extension of an existing information collection

Respondents/Affected Public: Individuals or households; Private Sector (Not-for-profit institutions), State, Local, or Tribal Government

Total Estimated Number of Annual Responses: 4,952

Total Estimated Number of Annual Burden Hours: 817

Abstract: This is a request for an extension of the approved recordkeeping requirements contained in the regulations related to the administrative requirements of the Federal Family Education Loan (FFEL) program. Effective August 14, 2008, upon a holder's receipt of a written request from a borrower and a copy of the borrower's military orders, the regulations at 34 CFR 682.202(a)(8) provide that the maximum interest (as defined in 50 U.S.C. 527, App. Section 207(d)) that may be charged on FFEL loans made prior to the borrower entering active duty status is six percent while the borrower is on active duty status.

Dated: November 21, 2012.
Darrin A. King,
Director, Information Collection Clearance Division, Privacy, Information and Records Management Services, Office of Management.

[FR Doc. 2012-28724 Filed 11-26-12; 8:45 am]

BILLING CODE 4000-01-P